DEPARTMENT OF COMMERCE

National Telecommunications and Information Administration

47 CFR Part 300

[Docket Number 221130-0254]

RIN 0660-AA38

Manual of Regulations and Procedures for Federal Radio Frequency Management

AGENCY: National Telecommunications and Information Administration (NTIA), Department of Commerce.

ACTION: Final rule.

SUMMARY: The National Telecommunications and Information Administration (NTIA) is making certain changes to its regulations relating to the public availability of the Manual of Regulations and Procedures for Federal Radio Frequency Management (NTIA Manual). NTIA has the authority, delegated by the president, to assign frequencies to radio stations or classes of radio stations belonging to and operated by the United States. NTIA's manual reflects this authority and provides for the coordination of Executive branch agencies' spectrum management and coordination. Specifically, NTIA is releasing a new edition of the NTIA Manual, with which Federal agencies must comply when requesting use of radio frequency spectrum.

DATES: Effective: March 6, 2023. The incorporation by reference of certain publications listed in the rule is approved by the Director of the Federal Register as of March 6, 2023.

ADDRESSES: A reference copy of the NTIA Manual, including all revisions in effect, is available in the Office of Spectrum Management, 1401 Constitution Avenue NW, Room 1087, Washington, DC 20230 and online at https://www.ntia.gov/page/2011/manual-regulations-and-procedures-federal-radio-frequency-management-redbook.

FOR FURTHER INFORMATION CONTACT: Alan Frable, Office of Spectrum Management, at (202) 482-1670 or afrable@ntia.gov.

SUPPLEMENTARY INFORMATION:

I. Background and Incorporation by Reference

NTIA authorizes the U.S. Government's use of radio frequency spectrum. 47 U.S.C. 902(b)(2)(A). As part of this authority, NTIA developed the NTIA Manual to provide further guidance to applicable Federal agencies on the use of the radio frequency spectrum for radio transmissions for telecommunications or for other purposes. The NTIA Manual is the compilation of policies and procedures that govern the use of the radio frequency spectrum by the U.S. Government. Federal Government agencies are required to follow these policies and procedures in their use of spectrum. Part 300 of title 47 of the Code of Federal Regulations provides information about the process by which NTIA regularly revises the NTIA Manual and makes public this document and all revisions. Federal agencies are required to comply with the specifications in the NTIA Manual when requesting frequency assignments. See 47 U.S.C. 901 et seq., Executive Order 12046 (March 27, 1978), 43 FR 13349, 3 CFR, 1978 Comp., p. 158. This rule updates § 300.1 of title 47 of the Code of Federal Regulations to specify the edition of the NTIA Manual with which Federal agencies must comply when requesting frequency assignments. This rule amends the section by incorporating by reference the 2022 edition of the NTIA Manual. Upon the effective date of this rule, Federal agencies must comply with the requirements set forth in the 2022 edition of the NTIA Manual. The NTIA Manual is available from the Superintendent of Documents, U.S. Government Publishing Office, Washington, DC 20402, by referring to Catalog Number 903-008-00000-8, and online at https://www.ntia.gov/page/2011/manual-regulations-and-procedures-federal-radio-frequency-management-redbook. A reference copy of the NTIA Manual, including all revisions in effect, is available in the Office of Spectrum Management, 1401 Constitution Avenue NW, Room 1087, Washington, DC 20230, by calling Alan Frable on (202) 482-1670.

II. Paperwork Reduction Act

This action does not contain collection of information requirements subject to the Paperwork Reduction Act (PRA). Notwithstanding any other provision of law, no person is required to respond to, nor shall any person be subject to a penalty for failure to comply with a collection of information subject to the Paperwork Reduction Act unless that collection displays a currently valid Office of Management and Budget (OMB) Control Number.

III. Executive Order 12866

This rule has been determined to be not significant for purposes of Executive Order 12866.

IV. Administrative Procedure Act/Regulatory Flexibility Act

NTIA finds good cause under 5 U.S.C. 553(b)(3)(B) to waive prior notice and opportunity for public comment as it is unnecessary. This action merely amends the regulations to include the date of the most current edition of the NTIA Manual. These changes do not impact the rights or obligations to the public. The NTIA Manual applies only to Federal agencies. Because these changes impact only Federal agencies, and has no other substantive impact, NTIA finds it unnecessary to provide for the notice and comment requirements of 5 U.S.C. 553. NTIA finds good cause under 5 U.S.C. 553(d)(3) to waive the 30-day delay in effectiveness for the same reasons provided above. Because notice and opportunity for comment are not required pursuant to 5 U.S.C. 553 or any other law, the analytical requirements of the Regulatory Flexibility Act (5 U.S.C. 601 et seq.) are not applicable. Therefore, a regulatory flexibility analysis is not required and has not been prepared.

V. Executive Order 13132

This rule does not contain policies having federalism implications as that term is defined in Executive Order 13132.

PART 300—MANUAL OF REGULATIONS AND PROCEDURES FOR FEDERAL RADIO FREQUENCY MANAGEMENT

1. The authority citation for part 300 continues to read as follows:

Authority: 47 U.S.C. 901 et seq., Executive Order 12046 (March 27, 1978), 43 FR 13349, 3 CFR 1978 Comp., p. 158.

2. Revise § 300.1(b) to read as follows:

§ 300.1 Incorporation by reference of the Manual of Regulations and Procedures for Federal Radio Frequency Management.

* * * * *

(b) The material listed in this paragraph (b) is incorporated by reference into this section with approval of the Director of the Federal Register under 5 U.S.C. 552(a) and 1 CFR part 51. All approved incorporation by reference (IBR) material is available for inspection at National Telecommunications and Information Administration (NTIA) and the National Archives and Records Administration (NARA). Contact NTIA at: National Telecommunications and Information Administration, Office of Spectrum Management, 1401 Constitution Avenue NW, Room 1087, Washington, DC 20230, telephone: (202) 482-1670. For information on the availability of this material, visit www.archives.gov/federal-register/cfr/ibr-locations.html or email fr.inspection@nara.gov. The material is available from: Commerce Department, National Telecommunications and Information Administration, Office of Spectrum Management, 1401 Constitution Avenue NW, Washington, DC 20230, www.ntia.gov/page/2022/manual-regulations-and-procedures-federal-radio-frequency-management-redbook; and Superintendent of Documents, U.S. Government Publishing Office, Washington, DC 20402, https://bookstore.gpo.gov/ (reference Catalog Number 903-008- 00000-8).

(1) Manual of Regulations and Procedures for Federal Radio Frequency Management, January 2022 Revisions to the January 2021 Edition, approved November 8, 2022.

(2) [Reserved]

Stephanie Weiner,
Chief Counsel (Acting), Office of Chief Counsel, National Telecommunications and Information Administration.

[FR Doc. 2023-04358 Filed 3-3-23; 8:45 am]

BILLING CODE 3510-60-P